DEPARTMENT OF LABOR

Occupational Safety and Health Administration

[Docket No. ICR-1218-00189(2000)]

Lead in Construction; Extension of the Office of Management of Budget's (OMB) Approval of Information-Collection (Paperwork) Requirements

AGENCY: Occupational Safety and Health Administration (OSHA), Labor.

ACTION: Notice of an opportunity for public comment.

SUMMARY: OSHA solicits comments concerning its request for an extension of the information-collection requirements contained in its standards titled, “Lead in Construction” (29 CFR 1926.62).

REQUEST FOR COMMENT: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before November 28, 2000.

ADDRESSES: Submit written comments to the Docket Office, Docket No. ICR-1218-0197(2000), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Kathleen Martinez, Directorate of Policy, OSHA, U.S. Department of Labor, Room N-3641, 200 Constitution Avenue, NW., Washington, DC 20210; telephone: (202) 693-2444. A copy of the Agency's Information-Collection Request (ICR) supporting the need for the information-collection requirements specified by its Lead in Construction is available for inspection and copying in the Docket Office, or you may request a mailed copy by telephoning Kathleen Martinez at (202) 693-2444. For electronic copies of this ICR, contact OSHA on the Internet at http://www.osha.gov.

SUPPLEMENTARY INFORMATION

I. Background

The Department of Labor, as part of its continuing effort to reduce paperwork and respondent burden, conducts a preclearance consultation program to provide the general public and Federal agencies with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information burden is correct. The Occupational Safety and Health Act of 1970 (the Act) authorizes information collection by employers as necessary or appropriate for enforcement of the Act or for developing information regarding the causes and prevention of occupational injuries, illnesses, and accidents (29 U.S.C. 657).

The basic purpose of the information-collection requirements in the Lead in Construction Standard is to document that employers in the construction industry are providing their employees with protection from hazardous lead exposures. Lead exposure can result in both acute and chronic effects, and can be fatal at high exposure levels. Health affects associated with lead exposure include: Neurological problems that may result in seizures, coma, and death; high blood pressure; kidney and reproductive problems; and decreased red blood cell production.

The standard specifies the following requirements that impose paperwork burdens on employers: Establishing a compliance program and notifying other onsite employers (at multi-employer worksites) and laundry personnel of the lead hazard; instituting programs for exposure monitoring and medical surveillance (including medical examinations); notifying employees of exposure levels, biological-monitoring results, the option for multiple-physician review, and the availability of chelation; providing information to physicians; obtaining written medical opinions; implementing employee-information and training programs (including providing employees with copies of the standard, and employees and other specified parties with copies of the training and information materials); recording medical removals; maintaining and transferring records of exposure-monitoring and medical-surveillance results, medical removals, and objective data used for the initial-exposure-monitoring exemption; and making records available to specified parties. These paperwork requirements permit OSHA and other specified parties to determine the effectiveness of an employer's compliance activities, thereby ensuring that they are providing employees with all of the protection afforded by the standard.

II. Proposed Actions

OSHA proposes to extend OMB's approval of the collection-of-information (paperwork) requirements contained in the Lead in Construction Standard. The Agency will summarize the comments submitted in response to this notice, and will include this summary in its request to OMB to extend the approval of the information-collection requirements contained in the standard.

Type of Review: Extension of currently approved information-collection requirements.

Title: Lead in Construction (29 CFR 1926.62).

OMB Number: 1218-0189.

Affected Public: Business or other for-profit organizations; Federal, State, Local, or Tribal governments.

Number of Respondents: 147,073.

Frequency: On occasion.

Average Time per Response: Varies from 5 minutes for a supervisor to provide OSHA with written compliance plans, training-program materials, and other records during an inspection, to 2.44 hours for a supervisor to write a compliance plan.

Estimated Total Burden Hours: 1,814,6971.

Estimated Cost (Operation and Maintenance): $87,087,005.

III. Authority and Signature

Charles N. Jeffress, Assistant Secretary of Labor for Occupational Safety and Health, directed the preparation of this notice. The authority for this notice is the Paperwork Reduction Act of 1995 (44 U.S.C. 3506) and Secretary of Labor's Order No 3-2000 (65 FR 50017).

Signed at Washington, DC on September 25, 2000.
Charles N. Jeffress,
Assistant Secretary of Labor.

[FR Doc. 00-25066 Filed 9-28-00; 8:45 am]

BILLING CODE 4510-26-U